DEPARTMENT OF TRANSPORTATION

Federal Railroad Administration

[Docket Number FRA-2015-0047]

Petition for Waiver of Compliance

In accordance with part 211 of Title 49 Code of Federal Regulations (CFR), this document provides the public notice that by a document dated May 8, 2015, the Stewartstown Railroad (STRT) has petitioned the Federal Railroad Administration (FRA) for a waiver of compliance from certain provisions of the Federal railroad safety regulations contained at 49 CFR part 215, Railroad Freight Car Safety Standards; Part 223, Safety Glazing Standards—Locomotives, Passenger Cars and Cabooses; and Part 224, Reflectorization of Rail Freight Rolling Stock. FRA assigned the petition Docket Number FRA-2015-0047.

STRT owns 7.4 miles of railroad between Stewartstown and New Freedom, PA. The last revenue trains were operated in 2004. Over the last several years, volunteers have made repairs and upgrades to track, locomotives, and rolling stock. STRT initially intends to operate six-tenths of a mile out of Stewartstown and gradually expand services as more track is rehabilitated to Class 1 condition. Initial service will be provided by a 35-ton Plymouth locomotive and Caboose PRR 478173 to carry passengers for tourist railroad operations conducted at speeds not exceeding 10 mph. Caboose PRR 478173 is the subject of the present waiver petition.

STRT indicates that this car was built in February 1951, which makes the current date more than 50 years from the date of original construction, and STRT will therefore require relief from 49 CFR 215.203, Restricted cars, to continue the car in service. Because the caboose is not equipped with compliant glazing, SRTR also requests relief from the requirements of 49 CFR 223.13, Requirements for existing cabooses. STRT notes that there is no history of vandalism and that retrofitting the caboose with compliant glazing would be cost prohibitive. Since STRT does not interchange equipment with any of the railroad, the railroad also requests relief from the requirements of 49 CFR 215.303, Stenciling of restricted cars. STRT notes that there is no freight service on this line and none is anticipated in the near future. As the caboose will be used only in excursion passenger service, the railroad requests relief from the requirements of 49 CFR part 224.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 23, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on November 13, 2015.
Ron Hynes,
Director, Office of Technical Oversight.

[FR Doc. 2015-29686 Filed 11-20-15; 8:45 am]

BILLING CODE 4910-06-P